DEPARTMENT OF COMMERCE

International Trade Administration

[C-533-825]

Polyethylene Terephthalate Film, Sheet and Strip From India: Partial Rescission of Countervailing Duty Administrative Review; 2011

AGENCY: Import Administration, International Trade Administration, Department of Commerce.

DATES: Effective Date: January 11, 2013.

FOR FURTHER INFORMATION CONTACT: Elfi Blum or Toni Page, Import Administration, International Trade Administration, U.S. Department of Commerce, 14th Street and Constitution Avenue NW., Washington, DC 20230; telephone: (202) 482-0197 or (202) 482-1398, respectively.

Background

On July 2, 2012, the Department of Commerce (Department) published a notice of opportunity to request an administrative review of the countervailing duty (CVD) order on polyethylene terephthalate film, sheet and strip from India covering the period January 1, 2011, through December 31, 2011.¹ The Department received a timely request for a CVD administrative review from Petitioners ² for five companies: Ester Industries Limited (Ester), Garware Polyester Ltd. (Garware), Polyplex Corporation Ltd. (Polyplex), SRF Limited (SRF), and Jindal Poly Films Limited of India (Jindal). The Department also received timely requests from Jindal and SRF for a CVD review of themselves. On August 30, 2012, the Department published a notice of initiation of administrative review with respect to Ester, Garware, Jindal, Polyplex, and SRF.³ On November 30, 2012, Petitioners withdrew their requests for a CVD administrative review of Ester, Garware, Jindal, and Polyplex. Jindal also withdrew its self-request for an administrative review.

¹ See Antidumping or Countervailing Duty Order, Finding, or Suspended Investigation; Opportunity To Request Administrative Review, 77 FR 39216, 39217 (July 2, 2012).

² Petitioners are DuPont Teijin Films, Mitsubishi Polyester Film, Inc., SKC, Inc. and Toray Plastics (America), Inc.

³ See Initiation of Antidumping and Countervailing Duty Administrative Reviews and Requests for Revocation in Part, 77 FR 52688 (August 30, 2012).

Rescission, in Part

Pursuant to 19 CFR 351.213(d)(1), the Secretary will rescind an administrative review, in whole or in part, if a party that requested the review withdraws the request within 90 days of the date of publication of the notice of initiation of the requested review. Petitioners' and Jindal's November 30, 2012, withdrawal requests were submitted within the 90-day period and thus are timely.⁴ As the withdrawal requests filed by Petitioners and Jindal are timely and no other party requested a review of Ester, Garware, Jindal, and Polyplex, we are rescinding this review with respect to these companies, in accordance with 19 CFR 351.213(d)(1). Because the review requests for SRF were not withdrawn, the Department will continue to conduct the CVD administrative review of SRF.

⁴ The 90th day fell on November 28, 2012; however, as explained in the memorandum from the Assistant Secretary for Import Administration, the Department has exercised its discretion to toll deadlines for the duration of the closure of the Federal Government from October 29, through October 30, 2012. Thus, all deadlines in this segment of the proceeding have been extended by two days. The revised deadline for filing a withdrawal request was November 30, 2012. See Memorandum to the Record from Paul Piquado, Assistant Secretary for Import Administration, regarding “Tolling of Administrative Deadlines As a Result of the Government Closure During Hurricane Sandy” (October 31, 2012).

Assessment

The Department will instruct U.S. Customs and Border Protection (CBP) to assess CVDs on all appropriate entries. Ester, Garware, Jindal, and Polyplex shall be assessed CVDs at rates equal to the cash deposit of estimated CVDs required at the time of entry, or withdrawal from warehouse, for consumption, in accordance with 19 CFR 351.212(c)(1)(i). The Department intends to issue appropriate assessment instructions directly to CBP 15 days after publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: January 7, 2013.
Christian Marsh,
Deputy Assistant Secretary for Antidumping and Countervailing Duty Operations.

[FR Doc. 2013-00466 Filed 1-10-13; 8:45 am]

BILLING CODE 3510-DS-P